ENVIRONMENTAL PROTECTION AGENCY

[FRL-6571-2]

Request for Nominations to the National Advisory Council for Environmental Policy and Technology (NACEPT)

AGENCY: Environmental Protection Agency (EPA).

ACTION: Notice of request for nominations.

SUMMARY: The Environmental Protection Agency (EPA) is inviting nominations to fill vacancies on its National Advisory Council for Environmental Policy and Technology (NACEPT). The Agency is seeking qualified senior level decision makers from diverse sectors throughout the U.S. to be considered for appointments. Nominations will be accepted until close of business April 28, 2000.

ADDRESSES: Submit nominations to: Mr. Gordon Schisler, Deputy Director, Office of Cooperative Environmental Management, U.S. Environmental Protection Agency, 1601-A, 1200 Pennsylvania Avenue, NW, Washington, DC 20460.

SUPPLEMENTARY INFORMATION: NACEPT is a federal advisory committee under the Federal Advisory Committee Act, PL 92463. NACEPT provides advice and recommendations to the Administrator and other EPA officials on a broad range of domestic and international environmental policy issues.

The Administrator of EPA has asked NACEPT to address several policy and regulatory components associated with Human Resource Development Planning, Information and Technology Planning and Strategic Planning.

NACEPT consists of a representative cross-section of EPA's partners and principle constituents who provide advice and recommendations on policy issues and serve as a sounding board for new strategies that the Agency is developing.

Maintaining a balance and diversity of experience, knowledge, and judgement is an important consideration in the selection of members. Potential candidates should possess the following qualifications:

Occupy a senior position within their organization.

Broad experience outside of their current position.

Experience dealing with public policy issues.

Membership in broad-based networks.

Extensive experience in the environmental field.

Recognized expert in the subject matter to be addressed by NACEPT.

EPA is seeking nominees for representation from all sectors, especially, state, local and tribal agencies, industry, academia, environmental justice organizations, grassroots organizations, and NGOs.

Nominations for membership must include a resume and short biography describing the educational and professional qualifications of the nominee and the nominee's current business address and daytime telephone number.

FOR FURTHER INFORMATION CONTACT: Ms. Gwendolyn Whitt, Designated Federal Officer for NACEPT, U.S. Environmental Protection Agency, 1601-A, 1200 Pennsylvania Avenue, NW, Washington, DC 20460; telephone (202) 564-5982.

Dated: March 29, 2000.
Gwendolyn Whitt,
Designated Federal Officer.

[FR Doc. 00-8401 Filed 4-5-00; 8:45 am]

BILLING CODE 6560-50-U